DEPARTMENT OF HOMELAND SECURITY

Coast Guard

[USCG-2005-20086]

Meeting of the Office of Boating Safety's Goal-Setting Recommendation Panel

AGENCY: Coast Guard, DHS.

ACTION: Notice of meeting.

SUMMARY: The Coast Guard's Office of Boating Safety (we) is sponsoring a panel of representatives of the recreational boating community. This panel will discuss, analyze, and propose performance measurement goals that we may use to improve boating safety. This meeting is open to the public.

DATES: This meeting will occur on Tuesday and Wednesday, February 8 and 9, 2005, from 9 a.m. to 5 p.m.

ADDRESSES: This meeting will occur in the Crystal II room at the Crystal City Sheraton Hotel, 1800 Jefferson Davis Highway, in Arlington, VA. This notice is available on the Internet at http://dms.dot.gov and at http://uscgboating.org.

FOR FURTHER INFORMATION CONTACT: Lynne Carliss, Program Coordinator, Office of Boating Safety, U.S. Coast Guard telephone 202-267-6010, fax 202-267-4285. If you have questions on viewing material in the docket, call Andrea M. Jenkins, Program Manager, Docket Operations, Department of Transportation, telephone 202-366-0271.

SUPPLEMENTARY INFORMATION: At the 2004 Fall meeting of the National Boating Safety Advisory Council (NBSAC), the Office of Boating Safety proposed to assemble a Goal-Setting Recommendation Panel. The National Boating Safety Advisory Council (NBSAC) endorsed this proposal. To facilitate this, we invited representatives of the recreational boating community to participate on this panel. A professional facilitator will moderate the meeting. The panel will consider, analyze, and propose recreational boating safety performance measurement goals that can be supported by the government, industry, and the boating public. A representative of this panel will present its conclusions at the April, 2005 NBSAC meeting. We will prepare minutes of the meeting. You may obtain them from the person listed above under FOR FURTHER INFORMATION CONTACT.

Procedural

The meeting is open to the public. Please note that the meeting may close early if all business is finished.

Information on Services for Individuals With Disabilities

For information on facilities or services for individuals with disabilities or to request special assistance at the meeting, contact the persons listed under FOR FURTHER INFORMATION CONTACT as soon as possible.

Dated: January 12, 2005.
James W. Underwood,
Rear Admiral, U.S. Coast Guard, Director of Operations Policy.

[FR Doc. 05-1056 Filed 1-19-05; 8:45 am]

BILLING CODE 4910-15-P